FEDERAL ELECTION COMMISSION

Sunshine Act Meeting

AGENCY: Federal Election Commission.

PREVIOUSLY ANNOUNCED DATE AND TIME: Thursday, June 28, 2001 at 10 a.m. The starting time has been changed to 2 p.m.

PLACE: 999 E Street, NW., Washington, DC (ninth floor).

STATUS: Meeting open to the public.

PERSON TO CONTACT FOR INFORMATION: Ron Harris, Press Officer, Telephone (202) 694-1220.

Mary W. Dove,
Secretary of the Commission.

[FR Doc. 01-16397 Filed 6-26-01; 10:55 am]

BILLING CODE 6715-01-M